DEPARTMENT OF JUSTICE

[OMB Number 1122-NEW]

Office on Violence Against Women; Agency Information Collection Activities: New Collection

ACTION: 30-Day Notice of Information Collection Under Review: Quarterly Conference Planning and Reporting Data Collection Form.

The Department of Justice, Office on Violence Against Women (OVW) will be submitting the following information collection request to the Office of Management and Budget (OMB) for review and approval in accordance with the Paperwork Reduction Act of 1995. The proposed information collection is published to obtain comments from the public and affected agencies. This proposed information collection was previously published in the Federal Register Volume 73, Number 135, page 40374 on July 14, 2008, allowing for a 60-day comment period.

The purpose of this notice is to allow for an additional 30 days for public comment until October 20, 2008. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Quarterly Conference Planning and Reporting Data Collection Form.

(3) Agency form number, if any, and the applicable component of the Department of Justice sponsoring the collection: Form Number: None yet. U.S. Department of Justice, Office on Violence Against Women.

(4) Affected public who will be asked or required to respond, as well as a brief abstract: The affected public includes the approximately 100 entities providing technical assistance as recipients under the OVW Technical Assistance Program (TA Program). OVW's TA Program provides grantees from the different OVW grant programs with training, expertise, and problem-solving strategies to enhance their efforts to meet the challenges of addressing domestic violence, sexual assault, dating violence, and stalking. OVW's Technical Assistance providers offer educational opportunities, conferences, peer-to-peer consultations, site visits, and tailored assistance that allows OVW grantees and others to learn from experts and one another about how to effectively respond to crimes of violence against women. Technical Assistance providers routinely hold meetings, conferences and trainings for OVW grantees to enhance the success of local projects they are implementing with VAWA grant funds. Section 218 of the Department of Justice Appropriations Act, 2008 (Title II, Division B, Pub. L. 110-161) requires the Attorney General to submit quarterly reports to the Inspector General regarding the costs and contracting procedures for certain conferences. In addition, section 1173 of Public Law 109-162, the Violence Against Women and Department of Justice Reauthorization Act of 2005 requires the Attorney General to prepare an annual report to the Chairman and ranking minority members of the Committees on the Judiciary of the Senate and of the House of Representatives that provides specified details about trainings and conferences. This new data collection form will enable OVW to collect information in order to respond to these reporting requirements in a timely manner.

(5) An estimate of the total number of respondents and the amount of time estimated for an average respondent to respond/reply: It is estimated that it will take the 100 respondents (Technical Assistance providers) approximately 15 minutes to complete the data collection form four times a year. The form collects basic information about conferences, meetings and trainings including location, purpose, costs, and number of attendees. This is information that is routinely collected by Technical Assistance providers in the ordinary course of business.

(6) An estimate of the total public burden (in hours) associated with the collection: The total annual hour burden to complete the data collection form is 100 hours. It will take approximately 15 minutes for the Technical Assistance providers to complete the form four times a year.

If additional information is required contact: Lynn Bryant, Department Clearance Officer, United States Department of Justice, Justice Management Division, Policy and Planning Staff, Suite 1600, Patrick Henry Building, 601 D Street, NW., Washington, DC 20530.

Dated: September 12, 2008.
Lynn Bryant,
Department Clearance Officer, PRA, United States Department of Justice.

[FR Doc. E8-21871 Filed 9-17-08; 8:45 am]

BILLING CODE 4410-FX-P